DEPARTMENT OF HOMELAND SECURITY

Federal Emergency Management Agency

44 CFR Part 67

[Docket ID FEMA-2011-0002; Internal Agency Docket No. FEMA-B-1210]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before November 15, 2011.

ADDRESSES: The corresponding preliminary Flood Insurance Rate Map (FIRM) for the proposed BFEs for each community is available for inspection at the community's map repository. The respective addresses are listed in the table below.

You may submit comments, identified by Docket No. FEMA-B-1210, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Grayson County, Kentucky, and Incorporated Areas
Taylor Fork | At the upstream side of Bloomington Road | None | +554 | Town of Leitchfield, Unincorporated Areas of Grayson County.
| Approximately 75 feet downstream of Wendell H. Ford-Western Kentucky Parkway | None | +560
* National Geodetic Vertical Datum.
+ North American Vertical Datum.
#Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Town of Leitchfield
Maps are available for inspection at 314 West White Oak Street, Leitchfield, KY 42755.
Unincorporated Areas of Grayson County
Maps are available for inspection at 10 Public Square, Leitchfield, KY 42754.
Leelanau County, Michigan (All Jurisdictions)
Lake Leelanau | Entire shoreline within community | None | +590 | Township of Bingham, Township of Centerville, Township of Leland, Township of Solon, Township of Suttons Bay.
Lake Michigan | Entire shoreline within community | None | +584 | Township of Bingham, Township of Centerville, Township of Cleveland, Township of Empire, Township of Glen Arbor, Township of Leelanau, Township of Leland, Township of Suttons Bay, Village of Empire.
Lake Michigan | Entire shoreline within community | +583 | +584 | Village of Suttons Bay.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Township of Bingham
Maps are available for inspection at the Bingham Township Office, 7171 South Center Highway, Traverse City, MI 49684.
Township of Centerville
Maps are available for inspection at the Centerville Township Hall, 5419 South French Road, Cedar, MI 49621.
Township of Cleveland
Maps are available for inspection at the Cleveland Township Hall, 955 West Harbor Highway, Maple City, MI 49664.
Township of Empire
Maps are available for inspection at the Empire Township Hall, 10088 Front Street, Empire, MI 49630.
Township of Glen Arbor
Maps are available for inspection at the Township Hall, 6394 West Western Avenue, Glen Arbor, MI 49636.
Township of Leelanau
Maps are available for inspection at the Leelanau Township Hall, 119 East Nagonaba Street, Northport, MI 49670.
Township of Leland
Maps are available for inspection at the Leland Township Office, 112 West Philip Street, Lake Leelanau, MI 49653.
Township of Solon
Maps are available for inspection at the Solon Township Hall, 2305 19 Mile Road Northeast, Cedar Springs, MI 49319.
Township of Suttons Bay
Maps are available for inspection at the Suttons Bay Township Office, 321 Saint Joseph Street, Suttons Bay, MI 49682.
Village of Empire
Maps are available for inspection at the Empire Village Office, 11518 South LaCore Street, Empire, MI 49630.
Village of Suttons Bay
Maps are available for inspection at the Suttons Bay Village Office, 420 Front Street, Suttons Bay, MI 49682.
Callaway County, Missouri, and Incorporated Areas
Auxvasse Creek (backwater effects from Missouri River) | From the Missouri River confluence to approximately 0.66 mile upstream of County Road 447 | +536 | +539 | Unincorpo­rated Areas of Callaway County.
Blue Creek (backwater effects from Missouri River) | From the Auxvasse Creek confluence to approximately 1.46 miles upstream of the Auxvasse Creek confluence | +536 | +539 | Unincorpo­rated Areas of Callaway County.
Clabber Creek (backwater effects from Missouri River) | From the Clabber Creek confluence to approximately 175 feet downstream of County Road 470 | +538 | +542 | Unincorpo­rated Areas of Callaway County.
Collier Creek (backwater effects from Missouri River) | From the Missouri River confluence to approximately 1,800 feet upstream of the Ewing Creek confluence | +538 | +541 | Unincorpo­rated Areas of Callaway County, Village of Mokane.
Eagle Creek (backwater effects from Missouri River) | From the Missouri River confluence to approximately 600 feet upstream of Eagle Creek Road | +531 | +534 | Unincorpo­rated Areas of Callaway County.
Ewing Creek (backwater effects from Missouri River) | From the Collier Creek confluence to approximately 0.40 mile upstream of the Collier Creek confluence | +538 | +541 | Unincorporated Areas of Callaway County, Village of Mokane.
Hillers Creek (backwater effects from Missouri River) | From the Missouri River confluence to approximately 400 feet upstream of County Road 485 | +542 | +546 | Unincorpo­rated Areas of Callaway County.
Little Tavern Creek North (backwater effects from Missouri River) | From the Missouri River confluence to approximately 1,900 feet downstream of State Route 94 | +530 | +532 | Unincorpo­rated Areas of Callaway County.
Logan Creek East (backwater effects from Missouri River) | From the Missouri River confluence to approximately 0.63 mile upstream of County Road 468 | +534 | +536 | Unincorpo­rated Areas of Callaway County.
Middle River (backwater effects from Missouri River) | From the Missouri River confluence to approximately 600 feet upstream of State Highway PP | +541 | +544 | Unincorpo­rated Areas of Callaway County.
Missouri River | Approximately 0.68 mile upstream of the Montgomery County boundary | +529 | +530 | Unincorpo­rated Areas of Callaway County, Village of Mokane.
| At the Boone/Cole County boundary | +562 | +563
Missouri River Tributary 1 (backwater effects from Missouri River) | From the Missouri River confluence to approximately 1,000 feet upstream of Harrisons Hill Road | +562 | +563 | Unincorpo­rated Areas of Callaway County.
Missouri River Tributary 5.1 (backwater effects from Missouri River) | From the Missouri River confluence to approximately 0.63 mile downstream of County Road 4023 | +549 | +552 | Unincorpo­rated Areas of Callaway County.
Missouri River Tributary 5.2 (backwater effects from Missouri River) | From the Missouri River confluence to approximately 50 feet downstream of State Route 94 | +546 | +550 | Unincorpo­rated Areas of Callaway County.
Mud Creek East (backwater effects from Missouri River) | From the Logan Creek East confluence to approximately 0.47 mile downstream of County Road 457 | +535 | +537 | Unincorpo­rated Areas of Callaway County.
Muddy Creek (backwater effects from Missouri River) | From the Middle River confluence to approximately 1.19 miles upstream of County Road 480 | +541 | +544 | Unincorpo­rated Areas of Callaway County.
Niemans Creek (backwater effects from Missouri River) | From the Missouri River confluence to approximately 0.91 mile downstream of County Road 4039 | +553 | +554 | Unincorpo­rated Areas of Callaway County.
Niemans Creek Tributary 3 (backwater effects from Missouri River) | From the Niemans Creek confluence to approximately 1,200 feet upstream of the Niemans Creek confluence | +553 | +554 | Unincorpo­rated Areas of Callaway County.
Rivaux Creek (backwater effects from Missouri River) | From the Missouri River confluence to approximately 0.47 mile downstream of the Rivaux Creek Tributary 7 confluence | +550 | +552 | Unincorpo­rated Areas of Callaway County.
Tavern Creek (backwater effects from Missouri River) | From the Missouri River confluence to approximately 1.25 miles upstream of State Route 94 | +530 | +532 | Unincorpo­rated Areas of Callaway County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Callaway County
Maps are available for inspection at the Callaway County Courthouse, 10 East 5th Street, Fulton, MO 65251.
Village of Mokane
Maps are available for inspection at the Village Hall, 201 West 3rd Street, Mokane, MO 65059.
Osage County Missouri, and Incorporated Areas
Baileys Creek (backwater effects from Missouri River) | From the Gasconade County boundary to approximately 2.07 miles upstream of the Gasconade County boundary | +529 | +530 | Unincorpo­rated Areas of Osage County.
Bear Creek (backwater effects from Missouri River) | From the Maries River confluence to approximately 700 feet upstream of County Road 610 | +548 | +551 | Unincorpo­rated Areas of Osage County.
Cadet Creek (backwater effects from Missouri River) | From the Osage River confluence to approximately 350 feet upstream of County Road 412 | +548 | +551 | Unincorpo­rated Areas of Osage County.
Darrow Branch (backwater effects from Missouri River) | From the Loose Creek confluence to approximately 1,950 feet upstream of the Loose Creek confluence | +542 | +544 | Unincorpo­rated Areas of Osage County.
Deer Creek (backwater effects from Missouri River) | From approximately 400 feet upstream of the Saint Aubert Creek confluence to approximately 1.99 miles upstream of State Route 100 | +537 | +540 | Unincorpo­rated Areas of Osage County.
Dooling Creek (backwater effects from Missouri River) | From approximately 1,000 feet upstream of Missouri Avenue to approximately 750 feet downstream of State Highway K | +534 | +537 | City of Chamois, Unincorporated Areas of Osage County.
Indian Creek (backwater effects from Missouri River) | From the Maries River confluence to approximately 1,550 feet upstream of County Road 610 | +548 | +551 | Unincorpo­rated Areas of Osage County.
Jaeger Creek (backwater effects from Missouri River) | From the Osage River confluence to approximately 0.56 mile upstream of the Osage River confluence | +548 | +551 | Unincorpo­rated Areas of Osage County.
Loose Creek (backwater effects from Missouri River) | From the Missouri River confluence to approximately 1,250 feet upstream of the Darrow Branch confluence | +542 | +544 | Unincorpo­rated Areas of Osage County.
Luzon Branch (backwater effects from Missouri River) | From the Missouri River confluence to approximately 1,800 feet upstream of County Road 416 | +547 | +550 | Unincorpo­rated Areas of Osage County.
Maries River (backwater effects from Missouri River) | From the Osage River confluence to approximately 0.67 mile upstream of the Bear Creek confluence | +548 | +551 | Unincorpo­rated Areas of Osage County.
Missouri River | At the Gasconade County boundary | +528 | +530 | City of Chamois, Unincorporated Areas of Osage County.
| At the Cole County boundary | +548 | +551
Osage River (backwater effects from Missouri River) | Approximately 9 miles upstream of U.S. Route 50 | +539 | +542 | Unincorpo­rated Areas of Osage County.
| At the Missouri River confluence | +543 | +547
Owl Creek (backwater effects from Missouri River) | From approximately 0.78 mile downstream of County Road 435 to approximately 775 feet downstream of County Road 435 | +539 | +542 | Unincorpo­rated Areas of Osage County.
Saint Aubert Creek (backwater effects from Missouri River) | From approximately 1.18 miles upstream of the Deer Creek confluence to approximately 1,350 feet downstream of County Road 435 | +538 | +541 | Unincorpo­rated Areas of Osage County.
South Fork Cadet Creek (backwater effects from Missouri River) | From the Cadet Creek confluence to approximately 0.88 mile upstream of the Cadet Creek confluence | +548 | +551 | Unincorpo­rated Areas of Osage County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Chamois
Maps are available for inspection at City Hall, 200 South Main Street, Chamois, MO 65024.
Unincorporated Areas of Osage County
Maps are available for inspection at the Osage County Courthouse, 205 East Main Street, Linn, MO 65051.
Oswego County, New York (All Jurisdictions)
Bell Creek (backwater area) | From the Town of Schroeppel corporate limits to approximately 1,380 feet upstream of the Town of Schroeppel corporate limits | None | +379 | Town of Volney.
Black Creek (backwater area) | From the Town of Mexico corporate limits to approximately 200 feet upstream of the Town of Mexico corporate limits | None | +442 | Town of Palermo.
Lycoming Creek (backwater area) | From the Town of Scriba corporate limits to approximately 0.5 mile upstream of the Town of Scriba corporate limits | None | +277 | Town of New Haven.
Panther Lake | Entire shoreline within community | None | +600 | Town of Amboy.
Salmon River | Approximately 0.63 mile upstream of County Route 2A (Lehigh Road) | None | +436 | Town of Albion.
| Approximately 0.96 mile upstream of County Route 2A (Lehigh Road) | None | +440
Scriba Creek | Approximately 0.90 mile upstream of County Route 23 (Potter Road) | None | +546 | Town of Amboy.
| Approximately 1.30 miles upstream of County Route 23 (Potter Road) | None | +547
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Town of Albion
Maps are available for inspection at the Albion Town Municipal Building, 15 Bridge Street, Altmar, NY 13302.
Town of Amboy
Maps are available for inspection at the Amboy Town Hall, 822 State Route 69, Williamstown, NY 13493.
Town of New Haven
Maps are available for inspection at the Town Hall, 4279 State Route 104, New Haven, NY 13121.
Town of Palermo
Maps are available for inspection at the Palermo Town Municipal Offices, 1572 County Road 45, Fulton, NY 13069.
Town of Volney
Maps are available for inspection at the Volney Town Offices, 1445 County Road 6, Fulton, NY 13069.
Morgan County, Ohio, and Incorporated Areas
Bald Eagle Run (backwater effects from Muskingum River) | Approximately 0.5 mile east of Riverview Road (At the northern Village of Stockport corporate limit) | None | +653 | Village of Stockport.
| Approximately 1,000 feet east of Riverview Road (At the northern Village of Stockport corporate limit) | None | +653
Bell Creek | At the Muskingum River confluence | +664 | +665 | Unincorpo­rated Areas of Morgan County, Village of McConnelsville.
| Approximately 0.8 mile upstream of North 7th Street | None | +740
Muskingum River | Approximately 0.4 mile downstream of State Route 266 | None | +651 | Village of Stockport.
| Approximately 1,600 feet upstream of State Route 266 | None | +653
Turkey Run (backwater effects from Muskingum River) | Approximately 300 feet east of East River Road (At the southern Village of Stockport corporate limit) | None | +651 | Village of Stockport.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Morgan County
Maps are available for inspection at the Reicker Building, 155 East Main Street, Room 208, McConnelsville, OH 43756.
Village of McConnelsville
Maps are available for inspection at 9 West Main Street, McConnelsville, OH 43756.
Village of Stockport
Maps are available for inspection at 1685 Broadway Street, Stockport, OH 43787.
Caldwell County, Texas, and Incorporated Areas
Mebane Creek | Approximately 0.38 mile downstream of FM 20 (State Park Road) | None | +513 | City of Lockhart, Unincorporated Areas of Caldwell County.
| Approximately 488 feet downstream of FM 20 (State Park Road) | None | +521
Town Branch | Approximately 981 feet downstream of Union Pacific Railroad | None | +441 | City of Lockhart, Unincorporated Areas of Caldwell County.
| At the upstream side of Union Pacific Railroad | None | +448
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Lockhart
Maps are available for inspection at 308 West San Antonio Street, Lockhart, TX 78644.
Unincorporated Areas of Caldwell County
Maps are available for inspection at 110 South Main Street, Lockhart, TX 78644.
Harrison County, West Virginia, and Incorporated Areas
Bingamon Creek (backwater effects from West Fork River) | At the West Fork River confluence | +901 | +902 | Unincorpo­rated Areas of Harrison County.
| Approximately 1.53 miles upstream of the West Fork River confluence | +901 | +902
Booths Creek | At the Marion County boundary | None | +959 | Unincorpo­rated Areas of Harrison County.
| At the Thomas Fork confluence | None | +1000
Tenmile Creek (backwater effects from West Fork River) | At the West Fork River confluence | +919 | +921 | Town of Lumberport.
| Approximately 1.45 miles upstream of the West Fork River confluence | +919 | +921
Thomas Fork | At the Booths Creek confluence | None | +1000 | City of Bridgeport, Unincorporated Areas of Harrison County.
| Approximately 420 feet downstream of Benedum Road | None | +1060
West Fork River | At the upstream side of State Route 20 | +918 | +921 | Town of Lumberport.
| At the Tenmile Creek confluence | +919 | +921
West Fork River | Approximately 0.45 mile downstream of Water Street | None | +972 | Town of West Milford.
| Approximately 0.47 mile upstream of West Milford Dam | None | +975
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Bridgeport
Maps are available for inspection at City Hall, 515 West Main Street, Bridgeport, WV 26330.
Town of Lumberport
Maps are available for inspection at the Town Hall, 200 Main Street, Lumberport, WV 26386.
Town of West Milford
Maps are available for inspection at the Town Hall, 925 Liberty Street, West Milford, WV 26451.
Unincorporated Areas of Harrison County
Maps are available for inspection at the Harrison County Courthouse, 301 West Main Street, Clarksburg, WV 26301.
Jackson County, Wisconsin, and Incorporated Areas
Black River | Approximately 0.94 mile downstream of County Highway K | None | +831 | Ho-Chunk Nation.
| Approximately 0.48 mile downstream of County Highway K | None | +833
Trempealeau River | Approximately 0.41 mile upstream of the French Creek confluence | None | +875 | Village of Taylor.
| Approximately 0.39 mile upstream of Bridge Street | None | +882
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Ho-Chunk Nation
Maps are available for inspection at W9814 Airport Road, Black River Falls, WI 54615.
Village of Taylor
Maps are available for inspection at 420 2nd Street, Taylor, WI 54659.
Juneau County, Wisconsin, and Incorporated Areas
Baraboo River | At the upstream side of Gehri Road | +914 | +913 | Unincorpo­rated Areas of Juneau County, Village of Union Center, Village of Wonewoc.
| At the West Branch Baraboo River confluence | +918 | +919
Baraboo River Split Flow | At the Baraboo River divergence | None | +916 | Unincorpo­rated Areas of Juneau County.
| At the Baraboo River convergence | None | +917
Cranberry Creek (overflow from Yellow River) | Approximately 1,000 feet downstream of the intersection of 8th Street and 13th Avenue | +933 | +934 | Unincorpo­rated Areas of Juneau County.
| At the downstream side of County Highway F | +947 | +951
Gardner Creek (overflow effects from Baraboo River) | At the Sauk County boundary | None | +907 | Unincorpo­rated Areas of Juneau County.
Onemile Creek (backwater effects from Lemonweir River) | At the upstream side of U.S. Route 12 | None | +866 | Unincorpo­rated Areas of Juneau County.
| Approximately 1,875 feet upstream of U.S. Route 12 | None | +866
South Branch Yellow River (backwater effects from Yellow River) | At the downstream side of State Route 80 | None | +899 | Unincorpo­rated Areas of Juneau County, Village of Necedah.
Unnamed Ponding Area (backwater effects from Baraboo River) | At the Sauk County boundary | None | +908 | Unincorpo­rated Areas of Juneau County.
Unnamed Ponding Area (backwater effects from Lemonweir River) | Approximately 50 feet west of U.S. Route 12 | None | +866 | Ho-Chunk Nation.
West Branch Baraboo River | At the Baraboo River confluence | +919 | +920 | Unincorpo­rated Areas of Juneau County, Village of Union Center.
| At the Vernon County boundary | None | +931
West Branch Baraboo River Split Flow 1 | At the West Branch Baraboo River divergence | None | +927 | Unincorpo­rated Areas of Juneau County.
| At the West Branch Baraboo River convergence | None | +929
West Branch Baraboo River Split Flow 2 | At the West Branch Baraboo River confluence | None | +929 | Unincorpo­rated Areas of Juneau County.
| At the Vernon County boundary | None | +931
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Ho-Chunk Nation
Maps are available for inspection at W9814 Airport Road, Black River Falls, WI 54615.
Unincorporated Areas of Juneau County
Maps are available for inspection at 220 East State Street, Mauston, WI 53944.
Village of Necedah
Maps are available for inspection at 101 Center Street, Necedah, WI 54646.
Village of Union Center
Maps are available for inspection at 339 High Street, Union Center, WI 53962.
Village of Wonewoc
Maps are available for inspection at 200 West Street, Wonewoc, WI 53968.

(Catalog of Federal Domestic Assistance No. 97.022, “Flood Insurance.”)

Dated: August 5, 2011.
Sandra K. Knight,
Deputy Federal Insurance and Mitigation Administrator, Mitigation, Department of Homeland Security, Federal Emergency Management Agency.

[FR Doc. 2011-20966 Filed 8-16-11; 8:45 am]

BILLING CODE 9110-12-P